DEPARTMENT OF TRANSPORTATION

Surface Transportation Board

[STB Finance Docket No. 35106]

United States Department of Energy—Rail Construction and Operation—Caliente Rail Line in Lincoln, Nye, and Esmeralda Counties, NV

AGENCY: Surface Transportation Board.

ACTION: Notice of Public Hearing.

SUMMARY: The Surface Transportation Board will hold a public hearing concerning the application the Department of Energy (DOE) filed in the above docket. The purpose of the hearing will be to allow interested persons to comment on the application.

DATES/LOCATIONS: The public hearing will take place on December 4, 2008, beginning at 9 a.m., at the Nuclear Regulatory Commission's Las Vegas Hearing Facility—Pacific Enterprise Plaza, Building No. 1, 3250 Pepper Lane, Las Vegas, NV 89120. Any person wishing to speak at the hearing must file with the Board a written notice of intent to participate, identifying (1) the party represented, (2) the proposed speaker, and (3) the number of minutes requested. Notices of intent to participate should be filed as soon as possible, but no later than November 14, 2008. Following receipt of notices of intent, the Board will release a schedule of speakers for the hearing. In the event that the Board receives more requests to participate than can reasonably be accommodated in a one-day hearing, the Board will give priority to elected officials and current parties of record in the construction application proceeding.

ADDRESSES: Notices of intent to participate in the hearing may be submitted either via the Board's e-filing format or in the traditional paper format. Any person using e-filing should attach a document and otherwise comply with the Board's “http://www.stb.dot.gov” Web site, at the “E-FILING” link. Any person submitting a filing in the traditional paper format should send the filing to: Surface Transportation Board, Attn: STB Finance Docket No. 35106, 395 E Street, SW., Washington, DC 20423-0001.

FOR FURTHER INFORMATION, CONTACT: Joseph Dettmar, (202) 245-0395. [Assistance for the hearing impaired is available through the Federal Information Relay Service (FIRS) at: (800) 877-8339.]

SUPPLEMENTARY INFORMATION: On March 17, 2008, DOE filed an application seeking authority to construct and operate an approximately 300-mile rail line. The line, to be known as the Caliente Line, would connect an existing Union Pacific Railroad Company line near Caliente, NV, to a proposed geologic repository at Yucca Mountain, Nye County, NV.¹ The purpose of this proposed rail line is to allow DOE to transport materials needed to construct the proposed repository as well as spent nuclear fuel and high-level radioactive waste to the completed repository for disposal. DOE has also proposed the line so that common carrier rail service can reach communities situated along the line.

¹ The proposed repository is not subject to the Board's jurisdiction, and DOE does not seek this agency's authority to construct and operate it.

On April 11, 2008, the Board published a Federal Register notice (74 FR 20748) announcing DOE's application. The Board, on its own motion, established a procedural schedule with filing due dates longer than those set forth in the Board's regulations. See 49 CFR 1150.10(g) and (h). Pursuant to the schedule, parties submitted comments on the transportation aspects of DOE's proposed line, and DOE submitted a reply to the comments. As the transportation record has developed in this proceeding, so has the environmental record. Both records are currently under review at the Board.

At the hearing, the Board will hear testimony concerning DOE's application to construct and operate the rail line. Speakers at the hearing may, but are not required to, bring written copies of their testimony to the hearing and offer those statements for the record in the proceeding.

This action will not significantly affect either the quality of the human environment or the conservation of energy resources.

Dated: October 31, 2008.
Kulunie L. Cannon,
Clearance Clerk.

[FR Doc. E8-26381 Filed 11-4-08; 8:45 am]

BILLING CODE 4915-01-P